DEPARTMENT OF TRANSPORTATION

Federal Railroad Administration

Draft Tier II Environmental Impact Statement: Southeast High Speed Rail Corridor—Richmond, VA (Main Street Station) to Raleigh, NC (Boylan Wye)

AGENCY: Federal Railroad Administration (FRA), U.S. Department of Transportation (DOT).

ACTION: Notice of extension of comment period for the Tier II Draft Environmental Impact Statement for the Southeast High Speed Rail, Richmond, VA to Raleigh, NC Project (Project).

SUMMARY: On May 4, 2010, the Federal Railroad Administration (FRA) signed the Draft Tier II Environmental Impact Statement for the Southeast High Speed Rail, Richmond, VA to Raleigh, NC (Project). FRA is the lead Federal agency on the Project, and the North Carolina Department of Transportation Rail Division (NCDOT) and the Virginia Department of Rail and Public Transportation (DRPT) are co-lead State agencies. By Federal Register Notice dated June 7, 2010, FRA announced the public hearing schedule for the Project and set the closing date for the comment period as August 30, 2010. Because of the high amount of interest in the Project, FRA, NCDOT and DRPT have decided to extend the comment period to Friday, September 10, 2010.

DATES: The comment period on the Project is extended until September 10, 2010.

ADDRESSES: Comments may be submitted via the project Web site at http://www.sehsr.org or mailed to SEHSR Comments, NCDOT Rail Division, 1553 Mail Service Center, Raleigh, NC 27699-1553, SEHSR Comments, DRPT, 600 East Main Street, Suite 2102, Richmond, VA 23219.

FOR FURTHER INFORMATION CONTACT: For further information regarding the environmental review, please contact one of the following three individuals: Mr. Patrick Simmons, NCDOT Rail Division, 1553 Mail Service Center, Raleigh, NC 27699-1553 (telephone 919.733.7245), or by e-mail at pbsimmons@ncdot.gov, with “SEHSR Richmond to Raleigh,” in the subject heading; or Ms. Christine Fix, Department of Rail & Public Transportation, 600 East Main Street, Suite 2102, Richmond, VA 23219 (telephone 804 786-1052) or by e-mail at christine.fix@drpt.virginia.gov, with “SEHSR Richmond to Raleigh” in the subject heading; or Mr. John Winkle, Transportation Industry Analyst, Office of Passenger Programs, Federal Railroad Administration, 1200 New Jersey Ave., SE., Room W38-311, Washington, DC 20590 (telephone 202 493-6067), or by e-mail at John.Winkle@DOT.Gov with “SEHSR Richmond to Raleigh” in the subject heading.

SUPPLEMENTARY INFORMATION: The Tier II DEIS evaluates alternatives and the environmental impacts for proposed high speed passenger rail service with a maximum authorized speed of 110 miles per hour within the preferred corridor described in the Tier I Record of Decision for the SEHSR Corridor from Washington, DC to Charlotte, NC. This Tier II DEIS is focused on the approximately 162 mile portion of the corridor between Main Street Station in Richmond, VA and the Boylan Wye in Raleigh, NC. FRA's June 7, 2010 Federal Register notice describes the project in greater detail. In light of the public interest in the project and the environmental process, FRA, NCDOT, and DRPT have extended the public and agency comment period until September 10, 2010.

Availability of the DEIS

Copies of the Draft EIS and appendices are available for review at the following locations:

• Richmond Main Public Library, 101 East Franklin Street, Richmond, VA

• Richmond Regional Planning District Commission, 9211 Forest Hill Avenue, Suite 200, Richmond, VA

• Chesterfield County Central Public Library, 9501 Lori Road, Chester, VA

• Colonial Heights Public Library, 1000 Yacht Basin Drive, Colonial Heights, VA

• Petersburg Central Public Library, 137 S. Sycamore Street, Petersburg, VA

• Crater District Planning Commission, 1964 Wakefield Street, Petersburg, VA

• Dinwiddie County Planning Department, 14016 Boydton Plank Road, Dinwiddie, VA

• Southside Virginia Community College Library, Christiana Campus, 109 Campus Drive, Alberta, VA

• Southside Planning District Commission, 200 S. Mecklenburg Avenue, South Hill, VA

• Norlina Town Hall, 101 Main Street, Norlina, NC

• NCDOT District 3 Office, 321 Gillburg Road, Henderson, NC

• Franklinton Branch Public Library, 9 West Mason Street, Franklinton, NC

• NCDOT District 1 Office, 4009 District Drive, Raleigh, NC

The project Web site http://www.sehsr.org includes a complete list of locations and addresses. The document is also available at the Virginia Department of Rail and Public Transportation Office at 600 East Main Street, Suite 2102, Richmond, VA; and the North Carolina Department of Transportation Rail Division at 1 South Wilmington Street, Raleigh, NC. In addition, electronic versions of the Draft Tier II EIS and appendices are available through FRA's Web site at: http://www.fra.dot.gov and also on the DRPT Web site at http://www.drpt.virginia.gov and the project Web site at http://www.sehsr.org.

Issued in Washington, DC, on August 12, 2010.
Mark E. Yachmetz,
Associate Administrator for Railroad Policy and Development.

[FR Doc. 2010-20534 Filed 8-18-10; 8:45 am]

BILLING CODE 4910-06-P